DEPARTMENT OF ENERGY

Federal Energy Regulatory Commission

[Docket No. ER08-67-001]

Ameren Services Company; Notice Withdrawing Notice of Filing

April 9, 2008.

This notice withdraws a Notice of Filing that published in the Federal Register on Wednesday, March 5, 2008, in Commission Docket No. ER08-67-001 (73 FR 11905). The correct version of this notice was published in the Federal Register on March 6, 2008 (73 FR 12154).

Kimberly D. Bose,
Secretary.

[FR Doc. E8-7910 Filed 4-14-08; 8:45 am]

BILLING CODE 6717-01-P